DEPARTMENT OF DEFENSE

Office of the Secretary

[Transmittal Nos. 11-54]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-54 with attached transmittal, policy justification, and Sensitivity of Technology.

Dated: February 14, 2012.
Aaron Siegel,
Alternate OSD Federal Register Liaison Officer, Department of Defense.

BILLING CODE 5001-06-P

BILLING CODE 5001-06-C

Transmittal No. 11-54

Notice of Proposed Issuance of Letter of Offer Pursuant to Section 36(b)(1) of the Arms Export Control Act, as Amended

(i) Prospective Purchaser: Poland

(ii) Total Estimated Value:

Major Defense Equipment* | $219 million.
Other | $228 million.
Total | $447 million.
* As defined in Section 47(6) of the Arms Export Control Act.

(iii) Description and Quantity or Quantities of Articles or Services under Consideration for Purchase: 93 AIM-9X-2 SIDEWINDER Block II Tactical Missiles, 4 CATM-9X-2 Captive Air Training Missiles, 65 AIM-120C-7 Advanced Medium Range Air-to-Air Missiles, 42 GBU-49 Enhanced PAVEWAY II 500 lb Bombs, 200 GBU-54 (2000 lb) Laser Joint Direct Attack Munitions (JDAM) Bombs, 642 BLU-111 (500 lb) General Purpose Bombs, 127 MK-82 (500 lb) General Purpose Bombs, 80 BLU-117 (2000 lb) General Purpose Bombs, 4 MK-84 (2000 lb) Inert General Purpose Bombs, 9 F-100-PW-229 Engine Core Modules, 28 Night Vision Devices plus 6 spare intensifier tubes, 12 Autonomous Air Combat Maneuvering Instrumentation P5 pods, a Joint Mission Planning System, and five years of follow-on support and sustainment services for Poland's F-16 fleet, spare and repair parts, support and test equipment, publications and technical documentation, system overhauls and upgrades, personnel training and training equipment, U.S. Government and contractor technical support, and other related elements of program support.

(iv) Military Department: Air Force (SAC, Amd #12) Navy (GAP)

(v) Prior Related Cases: FMS case SAC (thru Amd #11)—$6M-23Mar00; FMS case GAP (thru Amd #xx)—$10M-18Apr02

(vi) Sales Commission, Fee, etc., Paid, offered, or Agreed to be Paid: None

(vii) Sensitivity of Technology Contained in the Defense Article or Defense Services Proposed to be Sold: See Attached Annex

(viii) Date Report Delivered to Congress: February 2, 2012

Policy Justification

Poland—F-16 Follow-On Support and Additional Munitions

The Government of Poland has requested a possible sale of 93 AIM-9X-2 SIDEWINDER Block II Tactical Missiles, 4 CATM-9X-2 Captive Air Training Missiles, 65 AIM-120C-7 Advanced Medium Range Air-to-Air Missiles, 42 GBU-49 Enhanced PAVEWAY II 500 lb Bombs, 200 GBU-54 (2000 lb) Laser Joint Direct Attack Munitions (JDAM) Bombs, 642 BLU-111 (500 lb) General Purpose Bombs, 127 MK-82 (500 lb) General Purpose Bombs, 80 BLU-117 (2000 lb) General Purpose Bombs, 4 MK-84 (2000 lb) Inert General Purpose Bombs, 9 F-100-PW-229 Engine Core Modules, 28 Night Vision Devices plus 6 spare intensifier tubes, 12 Autonomous Air Combat Maneuvering Instrumentation P5 pods, a Joint Mission Planning System, and five years of follow-on support and sustainment services for Poland's F-16 fleet, spare and repair parts, support and test equipment, publications and technical documentation, system overhauls and upgrades, personnel training and training equipment, U.S. Government and contractor technical support, and other related elements of program support. The estimated cost is $447 million.

Poland is an important ally in Northern Europe, contributing to NATO activities and ongoing U.S. interests in the pursuit of peace and stability. Poland's efforts in peacekeeping operations in Iraq and Afghanistan continue to serve U.S. national security interests. It is vital to the U.S. national interest to assist Poland to develop and maintain a strong and ready self-defense capability.

The proposed sale will improve Poland's capability to meet current and future operational needs. The upgrade will allow Poland to continue to bolster its regional leadership while increasing NATO interoperability. Poland already has these missiles and munitions in its inventory and will have no difficulty absorbing the additional systems into its armed forces.

The proposed sale of this equipment and support will not alter the basic military balance in the region.

The prime contractors will be Raytheon Corporation in Tucson, Arizona, Raytheon Corporation in Waltham, Massachusetts, The Boeing Company in St. Charles, Missouri, McAlester Army Ammunition Plant in McAlester, Oklahoma, and United Technologies Corporation in Hartford, Connecticut. There are no known offset agreements proposed in connection with this potential sale.

Implementation of this proposed sale will not require the assignment of any additional U.S. Government or contractor representatives to Poland. However, periodic travel to Poland will be required on a temporary basis in conjunction with program, technical, and management oversight and support requirements.

There will be no adverse impact on the U.S. defense readiness as a result of this proposed sale.

Transmittal No. 11-54

Notice of Proposed Issuance of Letter of Offer Pursuant to Section 36(b)(1) of the Arms Export Control Act

Annex Item No. vii

(vii) Sensitivity of Technology:

1. The AIM-9X-2 SIDEWINDER Block II Missile represents a substantial increase in missile acquisition and kinematics performance over the AIM-9M and replaces the AIM-9X-1 Block I missile configuration. The missile includes a high off bore-sight seeker, enhanced countermeasure rejection capability, low drag/high angle of attack airframe and the ability to integrate the Helmet Mounted Cueing System. The software algorithms are the most sensitive portion of the AIM-9X-2 missile. The software continues to be modified via a pre-planned product improvement (P³I) program in order to improve its counter-countermeasures capabilities. No software source code or algorithms will be released.

2. The AIM-9X-2 will result in the transfer of sensitive technology and information. The equipment, hardware, and documentation are classified Confidential. The software and operational performance are classified Secret. The seeker/guidance control section and the target detector are Confidential and contain sensitive state-of-the-art technology. Manuals and technical documentation that are necessary or support operational use and organizational management are classified up to Secret. Performance and operating logic of the counter-countermeasures circuits are classified Secret. The hardware, software, and data identified are classified to protect vulnerabilities, design and performance parameters and similar critical information.

3. The GBU-54 is a 2000lb Joint Direct Attack Munition (JDAM) variant that includes a DSU-40 Laser Sensor. The GBU-54 uses global position system aided inertial navigation and/or laser detection to guide to threat targets. The Laser sensor enhances the standard JDAM's reactive target capability by allowing rapid prosecution of fixed targets with large initial target location errors (TLE). The DSU-40 Laser sensor also provides the capability to engage some mobile targets. The DSU-40 Laser sensor is attached to an MK-84 or BLU-117 bomb body in the forward fuze well. The addition of the DSU-40 Laser sensor, combined with additional cabling and mounting hardware, turns a standard GBU-31 JDAM into a GBU-54 Laser JDAM. Information that might reveal target designation tactics and associated aircraft maneuvers, the probability of destroying specific/peculiar targets, vulnerabilities regarding countermeasures, and the electromagnetic environment is classified Secret.

4. The JDAM is actually a guidance kit that converts existing unguided free-fall bombs into precision-guided “smart” munitions. By adding a new tail section containing Inertial Navigation System (INS) guidance/Global Positioning System (GPS) guidance to unguided bombs, the cost effective JDAM provides highly accurate weapon delivery in any “flyable” weather. The INS, using updates from the GPS, helps guide the bomb to the target via the use of movable tail fins.

5. The AIM-120C Advanced Medium Range Air-to-Air Missile (AMRAAM) is a guided missile featuring digital technology and micro-miniature solid-state electronics. The AMRAAM capabilities include look-down/shoot-down, multiple launches against multiple targets, resistance to electronic countermeasures, and interception of high- and low-flying and maneuvering targets. The AMRAAM All Up Round (AUR) is classified Confidential. The major components and subsystems range from Unclassified to Confidential, and technical data and other documentation are classified up to Secret.

6. If a technologically advanced adversary were to obtain knowledge of the specific hardware and software elements, the information could be used to develop countermeasures that might reduce weapon system effectiveness or be used in the development of a system with similar or advanced capabilities.

[FR Doc. 2012-3848 Filed 2-17-12; 8:45 am]

BILLING CODE 5001-06-P